ENVIRONMENTAL PROTECTION AGENCY

40 CFR Part 63

[EPA-HQ-OAR-2008-0708, FRL-9277-3]

RIN 2060-AQ78

National Emission Standards for Hazardous Air Pollutants for Reciprocating Internal Combustion Engines

AGENCY: Environmental Protection Agency (EPA).

ACTION: Direct final rule; amendments.

SUMMARY: EPA is taking direct final action to promulgate amendments to a final rule that provided national emission standards for hazardous air pollutants for existing stationary spark ignition reciprocating internal combustion engines. The final rule was published on August 20, 2010. This direct final action amends certain regulatory text to clarify compliance requirements related to continuous parameter monitoring systems. EPA is also correcting minor typographical errors in the regulatory text to the August 20, 2010, action.

DATES: The direct final rule is effective on May 9, 2011, without further notice, unless EPA receives significant adverse written comment by April 8, 2011 on any portion of this rule, or if a public hearing is requested by March 16, 2011. If significant adverse comments are received on any or all of the amendments, EPA will publish a timely withdrawal in the Federal Register clarifying which provisions will become effective and which provisions are being withdrawn due to adverse comment.

ADDRESSES: Submit your comments, identified by Docket ID No. EPA-HQ-OAR-2008-0708, by one of the following methods:

• http://www.regulations.gov: Follow the on-line instructions for submitting comments.

• E-mail: a-and-r-docket@epa.gov.

• Fax: (202) 566-9744.

• Mail: U.S. Postal Service, send comments to: EPA Docket Center (6102T), National Emission Standards for Hazardous Air Pollutant for Stationary Reciprocating Internal Combustion Engines Docket, Docket ID No. EPA-HQ-OAR-2008-0708, 1200 Pennsylvania Ave., NW., Washington, DC 20460. Please include a total of two copies. In addition, please mail a copy of your comments on the information collection provisions to the Office of Information and Regulatory Affairs, Office of Management and Budget, Attn: Desk Officer for EPA, 725 17th St., NW., Washington, DC 20503.

• Hand Delivery: In person or by courier, deliver comments to: EPA Docket Center (6102T), National Emission Standards for Hazardous Air Pollutant for Stationary Reciprocating Internal Combustion Engines Docket, Docket ID No. EPA-HQ-OAR-2008-0708, EPA West, Room 3334, 1301 Constitution Avenue, NW., Washington, DC 20004. Such deliveries are only accepted during the Docket's normal hours of operation, and special arrangements should be made for deliveries of boxed information. Please include a total of two copies.

Instructions: Direct your comments to Docket ID No. EPA-HQ-OAR-2008-0708. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses.

Docket: All documents in the docket are listed in the http://www.regulations.gov index. EPA also relies on documents in Docket ID Nos. EPA-HQ-OAR-2002-0059, EPA-HQ-OAR-2005-0029, and EPA-HQ-OAR-2005-0030, and incorporated those dockets into the record for this action. Although listed in the index, some information is not publicly available, e.g., CBI or other information whose disclosure is restricted by statute. Certain other material, such as copyrighted material, will be publicly available only in hard copy. Publicly available docket materials are available either electronically in http://www.regulations.gov or in hard copy at the EPA Docket Center, EPA West, Room 3334, 1301 Constitution Ave., NW., Washington, DC. The Public Reading Room is open from 8:30 a.m. to 4:30 p.m., Monday through Friday, excluding legal holidays. The telephone number for the Public Reading Room is (202) 566-1744, and the telephone number for the Docket Center is (202) 566-1742.

FOR FURTHER INFORMATION CONTACT: Ms. Melanie King, Energy Strategies Group, Sector Policies and Programs Division (D243-01), Environmental Protection Agency, Research Triangle Park, North Carolina 27711; telephone number (919) 541-2469; facsimile number (919) 541-5450; e-mail address king.melanie@epa.gov.

SUPPLEMENTARY INFORMATION: Organization of This Document. The following outline is provided to aid in locating information in the preamble.

I. What is the background for the amendments?

II. What are the changes to the final rule?

III. Statutory and Executive Order Reviews

A. Executive Order 12866: Regulatory Planning and Review

B. Paperwork Reduction Act

C. Regulatory Flexibility Act

D. Unfunded Mandates Reform Act of 1995

E. Executive Order 13132: Federalism

F. Executive Order 13175: Consultation and Coordination With Indian Tribal Governments

G. Executive Order 13045: Protection of Children From Environmental Health and Safety Risks

H. Executive Order 13211: Actions Concerning Regulations That Significantly Affect Energy Supply, Distribution, or Use

I. National Technology Transfer and Advancement Act

J. Executive Order 12898: Federal Actions To Address Environmental Justice in Minority Populations and Low-Income Populations

K. Congressional Review Act

I. What is the background for the amendments?

On August 20, 2010 (75 FR 51570), EPA issued final amendments to the National Emission Standards for Hazardous Air Pollutants (NESHAP) for Stationary Reciprocating Internal Combustion Engines (RICE). EPA has subsequently determined, following discussions with affected parties, that the final rule warrants clarification in certain areas. First, certain portions of the operation and maintenance requirements for continuous parameter monitoring systems (CPMS) are unclear. Second, sources asked for guidance regarding the requirement to conduct a temperature measurement calibration check. Finally, EPA is correcting an inadvertent error in the definition for “spark ignition.” This action makes these clarifications and corrects these errors.

EPA is issuing the amendments as a direct final rule, without a prior proposal, because we view the revisions as noncontroversial and anticipate no adverse comment. However, in the Proposed Rules section of this Federal Register notice, EPA is publishing a separate document that will serve as the proposal to amend the RICE NESHAP if significant adverse comments are filed. EPA will not institute a second comment period on this action. Any parties interested in commenting must do so at this time. EPA would address all public comments in any subsequent final rule based on the proposed rule.

II. What are the changes to the final rule?

This direct final rule clarifies the provisions related to the data collection requirements for CPMS. After promulgation of the August 20, 2010, final rule, affected sources indicated that the CPMS operation, maintenance, and data collection requirements in 40 CFR 63.6625(b) were unclear. In particular, sources were not clear about the intent of the requirements for minimum availability of data. This action clarifies those requirements. It specifies that the requirement to monitor operating parameters on a continuous basis applies at all times the process is operating, except for periods of monitoring system malfunctions, repairs associated with monitoring system malfunctions, and required monitoring system quality assurance or quality control activities. This direct final rule also corrects an inadvertent error in the averaging time for the operating parameter data. Paragraph 40 CFR 63.6625(b)(4) required sources to determine a 3-hour block average of the parameter, which was not consistent with the requirements in Table 6 of 40 CFR part 63, subpart ZZZZ to determine a 4-hour rolling average. This action clarifies that sources should determine the 4-hour rolling average as specified in Table 6 to 40 CFR part 63, subpart ZZZZ and removes the reference to a 3-hour block average in 40 CFR 63.6625(b). The operating parameter data should be reduced to 1-hour averages, and the 4-hour rolling average should be determined using the rolling average of the four hourly averages.

Affected sources were also unclear regarding the requirement in 40 CFR 63.6625(k)(4) to conduct a temperature measurement calibration check at least every 3 months, and asked EPA for guidance on appropriate methods for conducting the calibration check. More specifically, sources struggled with the intention of the term “calibration check,” wondering whether classical techniques such as the use of ice and boiling water baths would be the sole acceptable means of demonstrating a “calibration check.” In addition, sources wondered whether just the sensor or the entire system should be subject to a “calibration check.” This action replaces the term “calibration check” with “system accuracy audit” to better reflect EPA's intent. EPA recognizes that there are many ways for a source to demonstrate that its measurement system—as opposed to individual sensors—are producing and should be expected to continue producing valid data, and EPA affords sources the ability to tailor their monitoring plans to accommodate their system accuracy audit preferences. System accuracy audit techniques could include, but are not limited to, the use of redundant sensors or the use of a reference temperature gauge inserted in a thermal well co-located with the CPMS sensor. In both of the examples given above, each sensor would provide an assessment of the other's operation as demonstrated through a comparison of their individual values, and, when coupled with the other parts of a system accuracy audit and approved by EPA, could fulfill the rule requirements. Affected sources also indicated that the requirement to conduct quarterly checks of the temperature measurement device was unreasonable because engines may be located in remote locations that could be difficult for personnel trained in the equipment performance check procedures to reach on a quarterly basis. EPA recognizes that for these sources, the requirement to conduct quarterly checks may be too burdensome given the remote location of the engines, and has determined that annual checks of the temperature measurement device equipment are acceptable for stationary engines to ensure the equipment is producing valid data. EPA therefore is amending the requirement to specify that the temperature measurement device checks must be performed on an annual basis rather than quarterly.

The August 20, 2010, final amendments specified that the engine owner/operator must develop and submit for approval a site-specific monitoring plan for each CPMS. The monitoring plan must address elements of monitoring system design, performance, and data quality assurance and quality control consistent with the general provisions in part 63 and requirements of 40 CFR part 63, subpart ZZZZ. EPA notes that 40 CFR 63.8(f)(4) of the General Provisions allows the source to use the monitoring plan development and approval process to propose and apply alternatives to CPMS quality assurance and quality control requirements identified in the rule.

Affected sources also indicated that there was insufficient time for sources that were already subject to 40 CFR part 63 subpart ZZZZ to comply with the CPMS operation and maintenance requirements established in the August 20, 2010, final rule. EPA agrees that it is appropriate to provide a period of lead time for sources that would have been immediately affected by the new specifications for CPMS operation and maintenance. EPA is therefore amending the final rule to provide an additional 180 days before sources must comply with the CPMS operation and maintenance procedures in 40 CFR 63.6625(b).

This action also corrects an inadvertent error in 40 CFR 63.6603(a), which should have referenced Table 1b to 40 CFR part 63, subpart ZZZZ in addition to Table 2b. Table 1b includes the operating limitation requirements for existing stationary spark ignition four-stroke rich burn engines greater than 500 horsepower (HP) located at area sources of hazardous air pollutants. The introductory text to Tables 1b and 2b should also have contained a reference to 40 CFR 63.6603, and this action corrects that inadvertent error. This action also corrects an inadvertent error in Table 1b to 40 CFR part 63, subpart ZZZZ. The last line of Item 2 in Table 6 should have read “* * * and not using NSCR,” and this action corrects that inadvertent error.

This action also clarifies the initial compliance requirements in Table 5 to 40 CFR part 63, subpart ZZZZ. The table as finalized did not clearly indicate the initial compliance requirements for existing non-emergency stationary engines larger than 500 HP complying with the option to limit the concentration of carbon monoxide (CO) or formaldehyde. The requirements were only shown for existing non-emergency stationary engines larger than 500 HP complying with the option to meet a percent reduction requirement for CO or formaldehyde. The requirements for those engines meeting a concentration limit are the same as those meeting a percent reduction limit, except that for those engines meeting a concentration limit, emissions are not required to be measured at the inlet of the emission control device as well as the outlet. This action also corrects an inadvertent error in Table 6 to 40 CFR part 63, subpart ZZZZ. Item 13.a. in Table 6 should have read “* * * and not using an oxidation catalyst or NSCR,” and this action corrects that inadvertent error.

Finally, this action corrects the definition for “Spark ignition.” The word “with” was inadvertently omitted from the definition, and EPA is amending the definition to insert “with” immediately following the phrase “A gasoline-fueled engine; or any other type of engine. * * *”

III. Statutory and Executive Order Reviews

A. Executive Order 12866: Regulatory Planning and Review

Under Executive Order 12866, Regulatory Planning and Review (58 FR 51735, October 4, 1993), this action is not a “significant regulatory action” and is, therefore, not subject to review by the Office of Management and Budget (OMB). This action is a clarification of and correction to certain text in the final rule and is not a “major rule” as defined by 5 U.S.C. 804(2). However, the final rule promulgated on August 20, 2010, was reviewed by OMB.

B. Paperwork Reduction Act

This action does not impose any new information collection burden. This action adds clarifications and corrections to the final standards. However, OMB has previously approved the information collection requirements contained in the existing regulation under the provisions of the Paperwork Reduction Act, 44 U.S.C. 3501 et seq. and has assigned OMB control number 2060-0548. The OMB control numbers for EPA's regulations in 40 CFR are listed in 40 CFR part 9.

C. Regulatory Flexibility Act

The Regulatory Flexibility Act generally requires an agency to prepare a regulatory flexibility analysis of any rule subject to notice and comment rulemaking requirements under the Administrative Procedure Act or any other statute unless the agency certifies that the rule will not have a significant economic impact on a substantial number of small entities. Small entities include small businesses, small organizations, and small governmental jurisdictions.

For purposes of assessing the impact of this rule on small entities, small entity is defined as: (1) A small business as defined by Small Business Administration (SBA) regulations at 13 CFR 121.201; (2) a small governmental jurisdiction that is a government of a city, county, town, school district, or special district with a population of less than 50,000; and (3) a small organization that is any not-for-profit enterprise which is independently owned and operated and is not dominant in its field.

After considering the economic impact of this direct final rule on small entities, I certify that this action will not have a significant economic impact on a substantial number of small because it does not add any additional regulatory requirements because this action only clarifies the existing compliance requirements and corrects typographical errors.

D. Unfunded Mandates Reform Act

Title II of the Unfunded Mandates Reform Act (UMRA), 2 U.S.C 1531-1538, requires Federal agencies, unless otherwise prohibited by law, to assess the effects of their regulatory actions on State, local, and tribal governments and the private sector. Federal agencies must also develop a plan to provide notice to small governments that might be significantly or uniquely affected by any regulatory requirements. The plan must enable officials of affected small governments to have meaningful and timely input in the development of EPA regulatory proposals with significant Federal intergovernmental mandates and must inform, educate, and advise small governments on compliance with the regulatory requirements.

This direct final rule does not contain a Federal mandate that may result in expenditures of $100 million or more for State, local, and tribal governments, in the aggregate, or the private sector in any one year. Thus, this final rule is not subject to the requirements of section 202 and 205 of the UMRA.

This final action is also not subject to the requirements of section 203 of the UMRA because it contains no regulatory requirements that might significantly or uniquely affect small governments. This final action contains no requirements that apply to such governments, imposes no obligations upon them, and will not result in expenditures by them of $100 million or more in any one year or any disproportionate impacts on them.

E. Executive Order 13132: Federalism

Executive Order 13132 (64 FR 43255, August 10, 1999) requires EPA to develop an accountable process to ensure “meaningful and timely input by State and local officials in the development of regulatory policies that have federalism implications.” “Policies that have federalism implications” is defined in the Executive Order to include regulations that have “substantial direct effects on the States, on the relationship between the national government and the States, or on the distribution of power and responsibilities among the various levels of government.”

This direct final rule does not have federalism implications. It will not have substantial direct effects on the States, on the relationship between the national government and the States, or on the distribution of power and responsibilities among the various levels of government, as specified in Executive Order 13132. None of the affected facilities are owned or operated by State governments. Thus, Executive Order 13132 does not apply to these final rules.

F. Executive Order 13175: Consultation and Coordination With Indian Tribal Governments

Subject to the Executive Order 13175 (65 FR 67249, November 9, 2000) EPA may not issue a regulation that has tribal implications, that imposes substantial direct compliance costs, and that is not required by statute, unless the Federal government provides the funds necessary to pay the direct compliance costs incurred by tribal governments, or EPA consults with tribal officials early in the process of developing the regulation and develops a tribal summary impact statement.

This direct final rule does not have tribal implications, as specified in Executive Order 13175 (65 FR 67249, November 9, 2000). It will not have substantial direct effects on tribal governments, on the relationship between the Federal government and Indian tribes, or on the distribution of power and responsibilities between the Federal government and Indian tribes, as specified in Executive Order 13175. The final rule imposes no new requirements on the one tribally owned facility. Thus, Executive Order 13175 does not apply to this action.

G. Executive Order 13045: Protection of Children From Environmental Health Risks and Safety Risks

EPA interprets Executive Order 13045 (62 FR 19885, April 23, 1997) as applying to those regulatory actions that concern health or safety risks, such that the analysis required under section 5-501 of the Executive Order has the potential to influence the regulation. This action is not subject to Executive Order 13045 because it is based solely on technology performance.

H. Executive Order 13211: Actions Concerning Regulations That Significantly Affect Energy Supply, Distribution, or Use

This action is not subject to Executive Order 13211 (66 FR 28355 (May 22, 2001)), because it is not a significant regulatory action under Executive Order 12866.

I. National Technology Transfer and Advancement Act

Section 12(d) of the National Technology Transfer and Advancement Act of 1995 (“NTTAA”), Public Law 104-113 (15 U.S.C. 272 note) directs EPA to use voluntary consensus standards (VCS) in its regulatory activities unless to do so would be inconsistent with applicable law or otherwise impractical. VCS are technical standards (e.g., materials specifications, test methods, sampling procedures, and business practices) that are developed or adopted by VCS bodies. NTTAA directs EPA to provide Congress, through OMB, explanations when the Agency decides not to use available and applicable VCS.

This action does not involve changes to the technical standards related to test methods or monitoring methods; thus, the requirements of section 12(d) of the National Technology Transfer and Advancement Act of 1995 (15 U.S.C. 272) do not apply.

J. Executive Order 12898: Federal Actions To Address Environmental Justice in Minority Populations and Low-Income Populations

Executive Order 12898 (59 FR 7629) (February 16, 1994) establishes Federal executive policy on environmental justice. Its main provision directs Federal agencies, to the greatest extent practicable and permitted by law, to make environmental justice part of their mission by identifying and addressing, as appropriate, disproportionately high and adverse human health or environmental effects of their programs, policies, and activities on minority populations and low-income populations in the United States.

The direct final rule does not involve special consideration of environmental justice-related issues as required by Executive Order 12898, Federal Actions to Address Environmental Justice in Minority Populations and Low-Income Populations (59 FR 7629, February 16, 1994), because it does not change any regulatory requirements. This action merely corrects and clarifies existing requirements.

K. Congressional Review Act

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. A major rule cannot take effect until 60 days after it is published in the Federal Register. This action is not a “major rule” as defined by 5 U.S.C. 804(2). This action is effective May 9, 2011.

List of Subjects in 40 CFR Part 63

Administrative practice and procedure, Air pollution control, Hazardous substances, Incorporation by reference, Intergovernmental relations, Reporting and recordkeeping requirements.

Dated: March 1, 2011.
Lisa P. Jackson,
Administrator.

For the reasons stated in the preamble, title 40, chapter I, part 63 of the Code of Federal Regulations is amended as follows:

PART 63—[AMENDED]

1. The authority citation for part 63 continues to read as follows:

Authority: 42 U.S.C. 7401, et seq.

Subpart ZZZZ—[Amended]

2. Section 63.6603 is amended by revising paragraph (a) to read as follows:

§ 63.6603 What emission limitations and operating limitations must I meet if I own or operate an existing stationary RICE located at an area source of HAP emissions?

* * * * *

(a) If you own or operate an existing stationary RICE located at an area source of HAP emissions, you must comply with the requirements in Table 2d to this subpart and the operating limitations in Table 1b and Table 2b to this subpart that apply to you.

* * * * *

3. Section 63.6625 is amended by revising paragraph (b) and removing paragraph (k) to read as follows:

§ 63.6625 What are my monitoring, installation, collection, operation, and maintenance requirements?

* * * * *

(b) If you are required to install a continuous parameter monitoring system (CPMS) as specified in Table 5 of this subpart, you must install, operate, and maintain each CPMS according to the requirements in paragraphs (b)(1) through (5) of this section. For an affected source that is complying with the emission limitations and operating limitations on March 9, 2011, the requirements in paragraph (b) of this section are applicable September 6, 2011.

(1) You must prepare a site-specific monitoring plan that addresses the monitoring system design, data collection, and the quality assurance and quality control elements outlined in paragraphs (b)(1)(i) through (v) of this section and in § 63.8(d). As specified in § 63.8(f)(4), you may request approval of monitoring system quality assurance and quality control procedures alternative to those specified in paragraphs (b)(1) through (5) of this section in your site-specific monitoring plan.

(i) The performance criteria and design specifications for the monitoring system equipment, including the sample interface, detector signal analyzer, and data acquisition and calculations;

(ii) Sampling interface (e.g., thermocouple) location such that the monitoring system will provide representative measurements;

(iii) Equipment performance evaluations, system accuracy audits, or other audit procedures;

(iv) Ongoing operation and maintenance procedures in accordance with provisions in § 63.8(c)(1) and (c)(3); and

(v) Ongoing reporting and recordkeeping procedures in accordance with provisions in § 63.10(c), (e)(1), and (e)(2)(i).

(2) You must install, operate, and maintain each CPMS in continuous operation according to the procedures in your site-specific monitoring plan.

(3) The CPMS must collect data at least once every 15 minutes (see also § 63.6635).

(4) For a CPMS for measuring temperature range, the temperature sensor must have a minimum tolerance of 2.8 degrees Celsius (5 degrees Fahrenheit) or 1 percent of the measurement range, whichever is larger.

(5) You must conduct the CPMS equipment performance evaluation, system accuracy audits, or other audit procedures specified in your site-specific monitoring plan at least annually.

(6) You must conduct a performance evaluation of each CPMS in accordance with your site-specific monitoring plan.

* * * * *

4. Section 63.6635 is amended by revising paragraphs (b) and (c) to read as follows:

§ 63.6635 How do I monitor and collect data to demonstrate continuous compliance?

* * * * *

(b) Except for monitor malfunctions, associated repairs, required performance evaluations, and required quality assurance or control activities, you must monitor continuously at all times that the stationary RICE is operating. A monitoring malfunction is any sudden, infrequent, not reasonably preventable failure of the monitoring to provide valid data. Monitoring failures that are caused in part by poor maintenance or careless operation are not malfunctions.

(c) You may not use data recorded during monitoring malfunctions, associated repairs, and required quality assurance or control activities in data averages and calculations used to report emission or operating levels. You must, however, use all the valid data collected during all other periods.

5. Section 63.6675 is amended by revising the definition of Spark ignition to read as follows:

§ 63.6635 What definitions apply to this subpart?

* * * * *

Spark ignition means relating to either: A gasoline-fueled engine; or any other type of engine with a spark plug (or other sparking device) and with operating characteristics significantly similar to the theoretical Otto combustion cycle. Spark ignition engines usually use a throttle to regulate intake air flow to control power during normal operation. Dual-fuel engines in which a liquid fuel (typically diesel fuel) is used for CI and gaseous fuel (typically natural gas) is used as the primary fuel at an annual average ratio of less than 2 parts diesel fuel to 100 parts total fuel on an energy equivalent basis are spark ignition engines.

* * * * *

6. Table 1b to Subpart ZZZZ of Part 63 is revised to read as follows:

Table 1b to Subpart ZZZZ of Part 63—Operating Limitations for Existing, New, and Reconstructed Spark Ignition 4SRB Stationary RICE >500 HP Located at a Major Source of HAP Emissions and Existing Spark Ignition 4SRB Stationary RICE >500 HP Located at an Area Source of HAP Emissions

As stated in §§ 63.6600, 63.6603, 63.6630 and 63.6640, you must comply with the following operating limitations for existing, new and reconstructed 4SRB stationary RICE >500 HP located at a major source of HAP emissions and existing 4SRB stationary RICE >500 HP located at an area source of HAP emissions that operate more than 24 hours per calendar year:

For each . . . | You must meet the following operating limitation . . .
1. 4SRB stationary RICE complying with the requirement to reduce formaldehyde emissions by 76 percent or more (or by 75 percent or more, if applicable) and using NSCR; or 4SRB stationary RICE complying with the requirement to limit the concentration of formaldehyde in the stationary RICE exhaust to 350 ppbvd or less at 15 percent O2 and using NSCR; or 4SRB stationary RICE complying with the requirement to limit the concentration of formaldehyde in the stationary RICE exhaust to 2.7 ppmvd or less at 15 percent O2 and using NSCR. | a. Maintain your catalyst so that the pressure drop across the catalyst does not change by more than 2 inches of water at 100 percent load plus or minus 10 percent from the pressure drop across the catalyst measured during the initial performance test; and b. Maintain the temperature of your stationary RICE exhaust so that the catalyst inlet temperature is greater than or equal to 750 °F and less than or equal to 1250 °F.
2. 4SRB stationary RICE complying with the requirement to reduce formaldehyde emissions by 76 percent or more (or by 75 percent or more, if applicable) and not using NSCR; or 4SRB stationary RICE complying with the requirement to limit the concentration of formaldehyde in the stationary RICE exhaust to 350 ppbvd or less at 15 percent O2 and not using NSCR; or 4SRB stationary RICE complying with the requirement to limit the concentration of formaldehyde in the stationary RICE exhaust to 2.7 ppmvd or less at 15 percent O2 and not using NSCR. | Comply with any operating limitations approved by the Administrator.

7. Table 2b to Subpart ZZZZ of Part 63 introductory text is revised to read as follows:

Table 2b to Subpart ZZZZ of Part 63—Operating Limitations for New and Reconstructed 2SLB and Compression Ignition Stationary RICE >500 HP Located at a Major Source of HAP Emissions, New and Reconstructed 4SLB Stationary RICE ≥250 HP Located at a Major Source of HAP Emissions, Existing Compression Ignition Stationary RICE >500 HP, and Existing 4SLB Stationary RICE >500 HP Located at an Area Source of HAP Emissions

As stated in §§ 63.6600, 63.6601, 63.6603, 63.6630, and 63.6640, you must comply with the following operating limitations for new and reconstructed 2SLB and compression ignition stationary RICE located at a major source of HAP emissions; new and reconstructed 4SLB stationary RICE ≥250 HP located at a major source of HAP emissions; existing compression ignition stationary RICE >500 HP; and existing 4SLB stationary RICE >500 HP located at an area source of HAP emissions that operate more than 24 hours per calendar year:

* * * * *

8. Table 5 to Subpart ZZZZ of Part 63 is revised to read as follows:

Table 5 to Subpart ZZZZ of Part 63—Initial Compliance With Emission Limitations and Operating Limitations

As stated in §§ 63.6612, 63.6625 and 63.6630, you must initially comply with the emission and operating limitations as required by the following:

For each . . . | Complying with the requirement to . . . | You have demonstrated initial compliance if . . .
1. New or reconstructed non-emergency 2SLB stationary RICE >500 HP located at a major source of HAP, new or reconstructed non-emergency 4SLB stationary RICE ≥250 HP located at a major source of HAP, non-emergency stationary CI RICE >500 HP located at a major source of HAP, existing non-emergency stationary CI RICE >500 HP located at an area source of HAP, and existing non-emergency 4SLB stationary RICE >500 HP located at an area source of HAP that are operated more than 24 hours per calendar year | a. Reduce CO emissions and using oxidation catalyst, and using a CPMS | i. The average reduction of emissions of CO determined from the initial performance test achieves the required CO percent reduction; and ii. You have installed a CPMS to continuously monitor catalyst inlet temperature according to the requirements in § 63.6625(b); and iii. You have recorded the catalyst pressure drop and catalyst inlet temperature during the initial performance test.
2. Non-emergency stationary CI RICE >500 HP located at a major source of HAP, existing non-emergency stationary CI RICE >500 HP located at an area source of HAP, and existing non-emergency 4SLB stationary RICE >500 HP located at an area source of HAP that are operated more than 24 hours per calendar year | a. Limit the concentration of CO, using oxidation catalyst, and using a CPMS | i. The average CO concentration determined from the initial performance test is less than or equal to the CO emission limitation; and ii. You have installed a CPMS to continuously monitor catalyst inlet temperature according to the requirements in § 63.6625(b); and iii. You have recorded the catalyst pressure drop and catalyst inlet temperature during the initial performance test.
3. New or reconstructed non-emergency 2SLB stationary RICE >500 HP located at a major source of HAP, new or reconstructed non-emergency 4SLB stationary RICE ≥250 HP located at a major source of HAP, non-emergency stationary CI RICE >500 HP located at a major source of HAP, existing non-emergency stationary CI RICE >500 HP located at an area source of HAP, and existing non-emergency 4SLB stationary RICE >500 HP located at an area source of HAP that are operated more than 24 hours per calendar year | a. Reduce CO emissions and not using oxidation catalyst | i. The average reduction of emissions of CO determined from the initial performance test achieves the required CO percent reduction; and ii. You have installed a CPMS to continuously monitor operating parameters approved by the Administrator (if any) according to the requirements in § 63.6625(b); and iii. You have recorded the approved operating parameters (if any) during the initial performance test.
4. Non-emergency stationary CI RICE >500 HP located at a major source of HAP, existing non-emergency stationary CI RICE >500 HP located at an area source of HAP, and existing non-emergency 4SLB stationary RICE >500 HP located at an area source of HAP that are operated more than 24 hours per calendar year | a. Limit the concentration of CO, and not using oxidation catalyst | i. The average CO concentration determined from the initial performance test is less than or equal to the CO emission limitation; and ii. You have installed a CPMS to continuously monitor operating parameters approved by the Administrator (if any) according to the requirements in § 63.6625(b); and iii. You have recorded the approved operating parameters (if any) during the initial performance test.
5. New or reconstructed non-emergency 2SLB stationary RICE >500 HP located at a major source of HAP, new or reconstructed non-emergency 4SLB stationary RICE ≥250 HP located at a major source of HAP, non-emergency stationary CI RICE >500 HP located at a major source of HAP, existing non-emergency stationary CI RICE >500 HP located at an area source of HAP, and existing non-emergency 4SLB stationary RICE >500 HP located at an area source of HAP that are operated more than 24 hours per calendar year | a. Reduce CO emissions, and using a CEMS | i. You have installed a CEMS to continuously monitor CO and either O2 or CO2 at both the inlet and outlet of the oxidation catalyst according to the requirements in § 63.6625(a); and ii. You have conducted a performance evaluation of your CEMS using PS 3 and 4A of 40 CFR part 60, appendix B; and iii. The average reduction of CO calculated using § 63.6620 equals or exceeds the required percent reduction. The initial test comprises the first 4-hour period after successful validation of the CEMS. Compliance is based on the average percent reduction achieved during the 4-hour period.
6. Non-emergency stationary CI RICE >500 HP located at a major source of HAP, existing non-emergency stationary CI RICE >500 HP located at an area source of HAP, and existing non-emergency 4SLB stationary RICE >500 HP located at an area source of HAP that are operated more than 24 hours per calendar year | a. Limit the concentration of CO, and using a CEMS | i. You have installed a CEMS to continuously monitor CO and either O2 or CO2 at the outlet of the oxidation catalyst according to the requirements in § 63.6625(a); and ii. You have conducted a performance evaluation of your CEMS using PS 3 and 4A of 40 CFR part 60, appendix B; and
|  | iii. The average concentration of CO calculated using § 63.6620 is less than or equal to the CO emission limitation. The initial test comprises the first 4-hour period after successful validation of the CEMS. Compliance is based on the average concentration measured during the 4-hour period.
7. Non-emergency 4SRB stationary RICE >500 HP located at a major source of HAP, and existing non-emergency 4SRB stationary RICE >500 HP located at an area source of HAP that are operated more than 24 hours per calendar year | a. Reduce formaldehyde emissions and using NSCR | i. The average reduction of emissions of formaldehyde determined from the initial performance test is equal to or greater than the required formaldehyde percent reduction; and ii. You have installed a CPMS to continuously monitor catalyst inlet temperature according to the requirements in § 63.6625(b); and
|  | iii. You have recorded the catalyst pressure drop and catalyst inlet temperature during the initial performance test.
8. Non-emergency 4SRB stationary RICE >500 HP located at a major source of HAP, and existing non-emergency 4SRB stationary RICE >500 HP located at an area source of HAP that are operated more than 24 hours per calendar year | a. Reduce formaldehyde emissions and not using NSCR | i. The average reduction of emissions of formaldehyde determined from the initial performance test is equal to or greater than the required formaldehyde percent reduction; and ii. You have installed a CPMS to continuously monitor operating parameters approved by the Administrator (if any) according to the requirements in § 63.6625(b); and
|  | iii. You have recorded the approved operating parameters (if any) during the initial performance test.
9. Existing non-emergency 4SRB stationary RICE >500 HP located at an area source of HAP that are operated more than 24 hours per calendar year | a. Limit the concentration of formaldehyde and not using NSCR | i. The average formaldehyde concentration determined from the initial performance test is less than or equal to the formaldehyde emission limitation; and
|  | ii. You have installed a CPMS to continuously monitor operating parameters approved by the Administrator (if any) according to the requirements in § 63.6625(b); and
|  | iii. You have recorded the approved operating parameters (if any) during the initial performance test.
10. New or reconstructed non-emergency stationary RICE >500 HP located at a major source of HAP, new or reconstructed non-emergency 4SLB stationary RICE 250≤HP≤500 located at a major source of HAP, and existing non-emergency 4SRB stationary RICE >500 HP | a. Limit the concentration of formaldehyde in the stationary RICE exhaust and using oxidation catalyst or NSCR | i. The average formaldehyde concentration, corrected to 15 percent O2, dry basis, from the three test runs is less than or equal to the formaldehyde emission limitation; and ii. You have installed a CPMS to continuously monitor catalyst inlet temperature according to the requirements in § 63.6625(b); and
|  | iii. You have recorded the catalyst pressure drop and catalyst inlet temperature during the initial performance test.
11. New or reconstructed non-emergency stationary RICE >500 HP located at a major source of HAP, new or reconstructed non-emergency 4SLB stationary RICE 250≤HP≤500 located at a major source of HAP, and existing non-emergency 4SRB stationary RICE >500 HP | a. Limit the concentration of formaldehyde in the stationary RICE exhaust and not using oxidation catalyst or NSCR | i. The average formaldehyde concentration, corrected to 15 percent O2, dry basis, from the three test runs is less than or equal to the formaldehyde emission limitation; and ii. You have installed a CPMS to continuously monitor operating parameters approved by the Administrator (if any) according to the requirements in § 63.6625(b); and
|  | iii. You have recorded the approved operating parameters (if any) during the initial performance test.
12. Existing non-emergency stationary RICE 100≤HP≤500 located at a major source of HAP, and existing non-emergency stationary CI RICE 300<HP≤500 located at an area source of HAP | a. Reduce CO or formaldehyde emissions | i. The average reduction of emissions of CO or formaldehyde, as applicable determined from the initial performance test is equal to or greater than the required CO or formaldehyde, as applicable, percent reduction.
13. Existing non-emergency stationary RICE 100≤HP≤500 located at a major source of HAP, and existing non-emergency stationary CI RICE 300<HP≤500 located at an area source of HAP | a. Limit the concentration of formaldehyde or CO in the stationary RICE exhaust | i. The average formaldehyde or CO concentration, as applicable, corrected to 15 percent O2, dry basis, from the three test runs is less than or equal to the formaldehyde or CO emission limitation, as applicable.

9. Table 6 to Subpart ZZZZ of Part 63 is revised to read as follows:

Table 6 to Subpart ZZZZ of Part 63—Continuous Compliance With Emission Limitations, Operating Limitations, Work Practices, and Management Practices

As stated in § 63.6640, you must continuously comply with the emissions and operating limitations and work or management practices as required by the following:

For each . . . | Complying with the requirement to . . . | You must demonstrate continuous compliance by . . .
1. New or reconstructed non-emergency 2SLB stationary RICE >500 HP located at a major source of HAP, new or reconstructed non-emergency 4SLB stationary RICE ≥250 HP located at a major source of HAP, and new or reconstructed non-emergency CI stationary RICE >500 HP located at a major source of HAP | a. Reduce CO emissions and using an oxidation catalyst, and using a CPMS | i. Conducting semiannual performance tests for CO to demonstrate that the required CO percent reduction is achieved; ᵃ and ii. Collecting the catalyst inlet temperature data according to § 63.6625(b); and iii. Reducing these data to 4-hour rolling averages; and iv. Maintaining the 4-hour rolling averages within the operating limitations for the catalyst inlet temperature; and
|  | v. Measuring the pressure drop across the catalyst once per month and demonstrating that the pressure drop across the catalyst is within the operating limitation established during the performance test.
2. New or reconstructed non-emergency 2SLB stationary RICE >500 HP located at a major source of HAP, new or reconstructed non-emergency 4SLB stationary RICE ≥250 HP located at a major source of HAP, and new or reconstructed non-emergency CI stationary RICE >500 HP located at a major source of HAP | a. Reduce CO emissions and not using an oxidation catalyst, and using a CPMS | i. Conducting semiannual performance tests for CO to demonstrate that the required CO percent reduction is achieved; ᵃ and ii. Collecting the approved operating parameter (if any) data according to § 63.6625(b); and iii. Reducing these data to 4-hour rolling averages; and
|  | iv. Maintaining the 4-hour rolling averages within the operating limitations for the operating parameters established during the performance test.
3. New or reconstructed non-emergency 2SLB stationary RICE >500 HP located at a major source of HAP, new or reconstructed non-emergency 4SLB stationary RICE ≥250 HP located at a major source of HAP, new or reconstructed non-emergency stationary CI RICE >500 HP located at a major source of HAP, existing non-emergency stationary CI RICE >500 HP, existing non-emergency 4SLB stationary RICE >500 HP located at an area source of HAP that are operated more than 24 hours per calendar year | a. Reduce CO emissions or limit the concentration of CO in the stationary RICE exhaust, and using a CEMS | i. Collecting the monitoring data according to § 63.6625(a), reducing the measurements to 1-hour averages, calculating the percent reduction or concentration of CO emissions according to § 63.6620; and ii. Demonstrating that the catalyst achieves the required percent reduction of CO emissions over the 4-hour averaging period, or that the emission remain at or below the CO concentration limit; and iii. Conducting an annual RATA of your CEMS using PS 3 and 4A of 40 CFR part 60, appendix B, as well as daily and periodic data quality checks in accordance with 40 CFR part 60, appendix F, procedure 1.
4. Non-emergency 4SRB stationary RICE >500 HP located at a major source of HAP | a. Reduce formaldehyde emissions and using NSCR | i. Collecting the catalyst inlet temperature data according to § 63.6625(b); and
|  | ii. Reducing these data to 4-hour rolling averages; and
|  | iii. Maintaining the 4-hour rolling averages within the operating limitations for the catalyst inlet temperature; and
|  | iv. Measuring the pressure drop across the catalyst once per month and demonstrating that the pressure drop across the catalyst is within the operating limitation established during the performance test.
5. Non-emergency 4SRB stationary RICE >500 HP located at a major source of HAP | a. Reduce formaldehyde emissions and not using NSCR | i. Collecting the approved operating parameter (if any) data according to § 63.6625(b); and ii. Reducing these data to 4-hour rolling averages; and
|  | iii. Maintaining the 4-hour rolling averages within the operating limitations for the operating parameters established during the performance test.
6. Non-emergency 4SRB stationary RICE with a brake HP ≥5,000 located at a major source of HAP | a. Reduce formaldehyde emissions | Conducting semiannual performance tests for formaldehyde to demonstrate that the required formaldehyde percent reduction is achieved.ᵃ
7. New or reconstructed non-emergency stationary RICE >500 HP located at a major source of HAP and new or reconstructed non-emergency 4SLB stationary RICE 250 ≤HP≤500 located at a major source of HAP | a. Limit the concentration of formaldehyde in the stationary RICE exhaust and using oxidation catalyst or NSCR | i. Conducting semiannual performance tests for formaldehyde to demonstrate that your emissions remain at or below the formaldehyde concentration limit; ᵃ and ii. Collecting the catalyst inlet temperature data according to § 63.6625(b); and
|  | iii. Reducing these data to 4-hour rolling averages; and
|  | iv. Maintaining the 4-hour rolling averages within the operating limitations for the catalyst inlet temperature; and
|  | v. Measuring the pressure drop across the catalyst once per month and demonstrating that the pressure drop across the catalyst is within the operating limitation established during the performance test.
8. New or reconstructed non-emergency stationary RICE >500 HP located at a major source of HAP and new or reconstructed non-emergency 4SLB stationary RICE 250 ≤HP≤500 located at a major source of HAP | a. Limit the concentration of formaldehyde in the stationary RICE exhaust and not using oxidation catalyst or NSCR | i. Conducting semiannual performance tests for formaldehyde to demonstrate that your emissions remain at or below the formaldehyde concentration limit; ᵃ and ii. Collecting the approved operating parameter (if any) data according to § 63.6625(b); and
|  | iii. Reducing these data to 4-hour rolling averages; and
|  | iv. Maintaining the 4-hour rolling averages within the operating limitations for the operating parameters established during the performance test.
9. Existing emergency and black start stationary RICE ≤500 HP located at a major source of HAP, existing non-emergency stationary RICE <100 HP located at a major source of HAP, existing emergency and black start stationary RICE located at an area source of HAP, existing non-emergency stationary CI RICE ≤300 HP located at an area source of HAP, existing non-emergency 2SLB stationary RICE located at an area source of HAP, existing non-emergency landfill or digester gas stationary SI RICE located at an area source of HAP, existing non-emergency 4SLB and 4SRB stationary RICE ≤500 HP located at an area source of HAP, existing non-emergency 4SLB and 4SRB stationary RICE >500 HP located at an area source of HAP that operate 24 hours or less per calendar year | a. Work or Management practices | i. Operating and maintaining the stationary RICE according to the manufacturer's emission-related operation and maintenance instructions; or ii. Develop and follow your own maintenance plan which must provide to the extent practicable for the maintenance and operation of the engine in a manner consistent with good air pollution control practice for minimizing emissions.
10. Existing stationary CI RICE >500 HP that are not limited use stationary RICE, and existing 4SLB and 4SRB stationary RICE >500 HP located at an area source of HAP that operate more than 24 hours per calendar year and are not limited use stationary RICE | a. Reduce CO or formaldehyde emissions, or limit the concentration of formaldehyde or CO in the stationary RICE exhaust, and using oxidation catalyst or NSCR | i. Conducting performance tests every 8,760 hours or 3 years, whichever comes first, for CO or formaldehyde, as appropriate, to demonstrate that the required CO or formaldehyde, as appropriate, percent reduction is achieved or that your emissions remain at or below the CO or formaldehyde concentration limit; and
|  | ii. Collecting the catalyst inlet temperature data according to § 63.6625(b); and
|  | iii. Reducing these data to 4-hour rolling averages; and
|  | iv. Maintaining the 4-hour rolling averages within the operating limitations for the catalyst inlet temperature; and
|  | v. Measuring the pressure drop across the catalyst once per month and demonstrating that the pressure drop across the catalyst is within the operating limitation established during the performance test.
11. Existing stationary CI RICE >500 HP that are not limited use stationary RICE, and existing 4SLB and 4SRB stationary RICE >500 HP located at an area source of HAP that operate more than 24 hours per calendar year and are not limited use stationary RICE | a. Reduce CO or formaldehyde emissions, or limit the concentration of formaldehyde or CO in the stationary RICE exhaust, and not using oxidation catalyst or NSCR | i. Conducting performance tests every 8,760 hours or 3 years, whichever comes first, for CO or formaldehyde, as appropriate, to demonstrate that the required CO or formaldehyde, as appropriate, percent reduction is achieved or that your emissions remain at or below the CO or formaldehyde concentration limit; and
|  | ii. Collecting the approved operating parameter (if any) data according to § 63.6625(b); and
|  | iii. Reducing these data to 4-hour rolling averages; and
|  | iv. Maintaining the 4-hour rolling averages within the operating limitations for the operating parameters established during the performance test.
12. Existing limited use CI stationary RICE >500 HP and existing limited use 4SLB and 4SRB stationary RICE >500 HP located at an area source of HAP that operate more than 24 hours per calendar year | a. Reduce CO or formaldehyde emissions or limit the concentration of formaldehyde or CO in the stationary RICE exhaust, and using an oxidation catalyst or NSCR | i. Conducting performance tests every 8,760 hours or 5 years, whichever comes first, for CO or formaldehyde, as appropriate, to demonstrate that the required CO or formaldehyde, as appropriate, percent reduction is achieved or that your emissions remain at or below the CO or formaldehyde concentration limit; and
|  | ii. Collecting the catalyst inlet temperature data according to § 63.6625(b); and
|  | iii. Reducing these data to 4-hour rolling averages; and
|  | iv. Maintaining the 4-hour rolling averages within the operating limitations for the catalyst inlet temperature; and
|  | v. Measuring the pressure drop across the catalyst once per month and demonstrating that the pressure drop across the catalyst is within the operating limitation established during the performance test.
13. Existing limited use CI stationary RICE >500 HP and existing limited use 4SLB and 4SRB stationary RICE >500 HP located at an area source of HAP that operate more than 24 hours per calendar year | a. Reduce CO or formaldehyde emissions or limit the concentration of formaldehyde or CO in the stationary RICE exhaust, and not using an oxidation catalyst or NSCR | i. Conducting performance tests every 8,760 hours or 5 years, whichever comes first, for CO or formaldehyde, as appropriate, to demonstrate that the required CO or formaldehyde, as appropriate, percent reduction is achieved or that your emissions remain at or below the CO or formaldehyde concentration limit; and
|  | ii. Collecting the approved operating parameter (if any) data according to § 63.6625(b); and
|  | iii. Reducing these data to 4-hour rolling averages; and
|  | iv. Maintaining the 4-hour rolling averages within the operating limitations for the operating parameters established during the performance test.
ᵃ After you have demonstrated compliance for two consecutive tests, you may reduce the frequency of subsequent performance tests to annually. If the results of any subsequent annual performance test indicate the stationary RICE is not in compliance with the CO or formaldehyde emission limitation, or you deviate from any of your operating limitations, you must resume semiannual performance tests.

[FR Doc. 2011-5196 Filed 3-8-11; 8:45 am]

BILLING CODE 6560-50-P